DEPARTMENT OF HOMELAND SECURITY

Federal Emergency Management Agency

[Docket ID FEMA-2016-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

(Catalog of Federal Domestic Assistance No. 97.022, “Flood Insurance.”)

Dated: June 20, 2016.
Roy E. Wright,
Deputy Associate Administrator for Insurance and Mitigation, Department of Homeland Security, Federal Emergency Management Agency.

State and county | Location and case No. | Chief executive officer of community | Community map repository | Effective date of modification | Community No.
Arizona:
Maricopa (FEMA Docket No.: B-1556 | City of Peoria (14-09-4245P) | The Honorable Cathy Carlat, Mayor, City of Peoria, 8401 West Monroe Street, Peoria, AZ 85345 | City Hall, 8401 West Monroe Street, Peoria, AZ 85345 | Mar. 18, 2016 | 040050
Maricopa (FEMA Docket No.: B-1608) | City of Peoria (15-09-2060P) | The Honorable Cathy Carlat, Mayor, City of Peoria, 8401 West Monroe Street, Peoria, AZ 85345 | City Hall, 8401 West Monroe Street, Peoria, AZ 85345 | Apr. 29, 2016 | 040050
Pima (FEMA Docket No.: B-1556) | Unincorporated areas of Pima County (15-09-0394P) | The Honorable Sharon Bronson, Chair, Board of Supervisors, Pima County, 130 West Congress Street, 11th Floor, Tucson, AZ 85701 | Pima County Flood Control District, 210 North Stone Avenue, 9th Floor, Tucson, AZ 85701 | Mar. 21, 2016 | 040073
Pima (FEMA Docket No.: B-1608) | Unincorporated areas of Pima County (15-09-1650P) | The Honorable Sharon Bronson, Chair, Board of Supervisors, Pima County, 130 West Congress Street, 11th Floor, Tucson, AZ 85701 | Pima County Flood Control District, 210 North Stone Avenue, 9th Floor, Tucson, AZ 85701 | Apr. 15, 2016 | 040073
Yavapai (FEMA Docket No.: B-1608) | Unincorporated areas of Yavapai County (15-09-1727P) | The Honorable Craig Brown, Chairman, Board of Supervisors, Yavapai County, 1015 Fair Street, Prescott Valley, AZ 86305 | Yavapai County Flood Control District Office, 1120 Commerce Drive, Prescott, AZ 86305 | May 27, 2016 | 040093
California:
Kern (FEMA Docket No.: B-1556) | City of Bakersfield (13-09-2248P) | The Honorable Harvey Hall, Mayor, City of Bakersfield, 1600 Truxtun Avenue, Bakersfield, CA 93301 | Public Works Department, 1501 Truxtun Avenue, Bakersfield, CA 93301 | Mar. 29, 2016 | 060077
Kern (FEMA Docket No.: B-1556) | Unincorporated areas of Kern County (13-09-2248P) | The Honorable David Couch, Chairman, Board of Supervisors, Kern County, 1115 Truxtun Avenue, 5th Floor, Bakersfield, CA 93301 | Kern County Planning Department, 2700 M Street, Suite 100, Bakersfield, CA 93301 | Mar. 29, 2016 | 060075
Riverside (FEMA Docket No.: B-1608) | City of Corona (15-09-1832P) | The Honorable Eugene Montanez, Mayor, City of Corona, 400 South Vicentia Avenue, Corona, CA 92882 | City Hall, 400 South Vicentia Avenue, Corona, CA 92882 | Mar. 31, 2016 | 060250
Riverside (FEMA Docket No.: B-1608) | City of Moreno Valley (15-09-1728P) | The Honorable Tom Owings, Mayor, City of Moreno Valley, 14177 Frederick Street, Moreno Valley, CA 92552 | City Hall, 14177 Frederick Street, Moreno Valley, CA 92552 | May 26, 2016 | 065074
Riverside (FEMA Docket No.: B-1608) | City of Perris (15-09-1728P) | The Honorable Daryl R. Busch, Mayor, City of Perris, 101 North D Street, Perris, CA 92570 | City Hall, 101 North D Street, Perris, CA 92570 | May 26, 2016 | 060258
Riverside (FEMA Docket No.: B-1608) | Unincorporated areas of Riverside County (15-09-1832P) | The Honorable Marion Ashley, Chairman, Board of Supervisors, Riverside County, 4080 Lemon Street, 5th Floor, Riverside, CA 92501 | Riverside County Flood Control and Water Conservation District, 1995 Market Street, Riverside, CA 92501 | Mar. 31, 2016 | 060245
San Diego (FEMA Docket No.: B-1608) | City of El Cajon (15-09-1699P) | The Honorable Bill Wells, Mayor, City of El Cajon, 200 Civic Center Way, El Cajon, CA 92020 | City Hall, 200 Civic Center Way, El Cajon, CA 92020 | Apr. 8, 2016 | 060289
San Mateo (FEMA Docket No.: B-1556) | Unincorporated areas of San Mateo County (15-09-1770P) | The Honorable Carole Groom, Chair, Board of Supervisors, San Mateo County, 400 County Center, Redwood City, CA 94063 | San Mateo County Planning and Building Department, 455 County Center, Redwood City, CA 94063 | Mar. 31, 2016 | 060311
Hawaii:
Maui (FEMA Docket No.: B-1556) | Maui County (15-09-2997X) | The Honorable Alan M. Arakawa, Mayor, County of Maui, 200 South High Street, Kalana O Maui Building, 9th Floor, Wailuku, HI 96793 | Maui County Planning Department, 2200 Main Street, One Main Plaza Building, Suite 315, Wailuku, HI 96793 | Mar. 28, 2016 | 150003
Nevada:
Clark (FEMA Docket No.: B-1608) | Unincorporated areas of Clark County (15-09-2566P) | The Honorable Steve Sisolak, Chairman, Board of Supervisors, Clark County, 500 South Grand Central Parkway, 6th Floor, Las Vegas, NV 89106 | Office of the Director of Public Works, 500 South Grand Central Parkway, Las Vegas, NV 89155 | May 19, 2016 | 320003
Clark (FEMA Docket No.: B-1608) | Unincorporated areas of Clark County (16-09-0035P) | The Honorable Steve Sisolak, Chairman, Board of Supervisors, Clark County, 500 South Grand Central Parkway, 6th Floor, Las Vegas, NV 89106 | Office of the Director of Public Works, 500 South Grand Central Parkway, Las Vegas, NV 89155 | May 10, 2016 | 320003
Douglas (FEMA Docket No.: B-1608) | Unincorporated areas of Douglas County (15-09-0074P) | The Honorable Doug N. Johnson, Chairman, Board of Supervisors, Douglas County, P.O. Box 218, Minden, NV 89423 | Douglas County Public Works Department, 1615 8th Street, Minden, NV 89423 | May 26, 2016 | 320008
Douglas (FEMA Docket No.: B-1556) | Unincorporated areas of Douglas County (15-09-2371P) | The Honorable Doug N. Johnson, Chairman, Board of Supervisors, Douglas County, P.O. Box 218, Minden, NV 89423 | Douglas County Public Works Department, 1615 8th Street, Minden, NV 89423 | Mar. 24, 2016 | 320008
Washoe (FEMA Docket No.: B-1608) | City of Reno (16-09-0377X) | The Honorable Hillary Schieve, Mayor, City of Reno, 1 East 1st Street, Reno, NV 89505 | City Hall Annex, 450 Sinclair Street, Reno, NV 89501 | May 25, 2016 | 320020

[FR Doc. 2016-16055 Filed 7-6-16; 8:45 am]

BILLING CODE 9110-12-P